ENVIRONMENTAL PROTECTION AGENCY

[FRL-8056-1]

Clean Air Act Operating Permit Program; Petition for Objection to State Operating Permit for Colorado Interstate Gas Company, Latigo Station

AGENCY: Environmental Protection Agency (EPA).

ACTION: Notice of final action.

SUMMARY: This document announces that the EPA Administrator has responded to a citizen petition asking EPA to object to an operating permit issued by the Colorado Department of Public Health and Environment (CDPHE). Specifically, the Administrator has partially granted and partially denied the petition submitted by Jeremy Nichols to object to the operating permit issued to Colorado Interstate Gas Company—Latigo Station.

Pursuant to section 505(b)(2) of the Clean Air Act (Act), Petitioners may seek judicial review of those portions of the petitions which EPA denied in the United States Court of Appeals for the appropriate circuit. Any petition for review shall be filed within 60 days from the date this notice appears in the Federal Register, pursuant to section 307 of the Act.

ADDRESSES: You may review copies of the final order, the petition, and other supporting information at the EPA Region 8 Office, 999 18th Street, Suite 300, Denver, Colorado 80202-2466. EPA requests that if at all possible, you contact the individual listed in the FOR FURTHER INFORMATION CONTACT section to view the copies of the final order, the petition, and other supporting information. You may view the hard copies Monday through Friday, 8 a.m. to 4 p.m., excluding Federal holidays. If you wish to examine these documents, you should make an appointment at least 24 hours before visiting day. Additionally, the final order for the Latigo Station is available electronically at: http://www.epa.gov/region07/programs/artd/air/title5/petitiondb/petitions/cig_latigo_decision2005.pdf.

FOR FURTHER INFORMATION CONTACT: Hans Buenning, Air & Radiation Program, EPA, Region 8, 999 18th Street, Suite 200, Denver, Colorado 80202-2466, 303-312-6438, buenning.hans@epa.gov.

SUPPLEMENTARY INFORMATION: The Act affords EPA a 45-day period to review, and object to as appropriate, operating permits proposed by State permitting authorities. Section 505(b)(2) of the Act authorizes any person to petition the EPA Administrator within 60 days after the expiration of this review period to object to State operating permits if EPA has not done so. Petitions must be based only on objections to the permit that were raised with reasonable specificity during the public comment period provided by the State, unless the petitioner demonstrates that it was impracticable to raise these issues during the comment period or the grounds for the issues arose after this period.

On July 5, 2005, the EPA received a petition from Jeremy Nichols requesting that EPA object to the issuance of the title V operating permit to the Colorado Interstate Gas Company—Latigo Station (Latigo). Mr. Nichols asserts that the permit: (1) Fails to ensure compliance with volatile organic compound and hazardous air pollutant emission standards for the glycol dehydrator; (2) fails to require opacity monitoring; and (3) fails to appropriately control volatile organic compound emissions from internal combustion engines.

On February 17, 2006, the Administrator issued an order partially granting and partially denying the petition. The order explains the reasons behind EPA's conclusion that the CDPHE must revise the permit to refine the fuel restrictions and recordkeeping provisions to adequately assure compliance with the State Implementation Plan opacity condition of 20%. The order also explains the reasons for denying Mr. Nichols' remaining claims.

Dated: March 27, 2006.
Kerrigan G. Clough,
Acting Regional Administrator, Region 8.

[FR Doc. E6-5111 Filed 4-6-06; 8:45 am]

BILLING CODE 6560-50-P